DEPARTMENT OF HOMELAND SECURITY

Federal Emergency Management Agency

[Docket ID FEMA-2021-0002; Internal Agency Docket No. FEMA-B-2188]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arkansas:
Benton | City of Bentonville (21-06-0748P). | The Honorable Stephanie Orman, Mayor, City of Bentonville, 117 West Central Avenue, Bentonville, AR 72712. | City Hall, 3200 Southwest Municipal Drive, Bentonville, AR 72712. | https://msc.fema.gov/portal/advanceSearch. | Mar. 28, 2022 | 050012
Benton | City of Centerton (21-06-0748P). | The Honorable Bill Edwards, Mayor, City of Centerton, P.O. Box 208, Centerton, AR 72719. | City Hall, 290 Main Street, Centerton, AR 72719. | https://msc.fema.gov/portal/advanceSearch. | Mar. 28, 2022 | 050399
Benton | Unincorporated areas of Benton County (21-06-0748P). | The Honorable Barry Moehring, Benton County Judge, 215 East Central Avenue, Bentonville, AR 72712. | Benton County Planning Department, 2113 West Walnut Street, Rogers, AR 72756. | https://msc.fema.gov/portal/advanceSearch. | Mar. 28, 2022 | 050419
Colorado:
Douglas | Unincorporated areas of Douglas County (21-08-0569P). | The Honorable Lora A. Thomas, Chair, Douglas County Board of Commissioners, 100 3rd Street, Castle Rock, CO 80104. | Douglas County Public Works Department, Engineering Division, Castle Rock, CO 80104. | https://msc.fema.gov/portal/advanceSearch. | Mar. 18, 2022 | 080049
El Paso | City of Colorado Springs (21-08-0258P). | The Honorable John Suthers, Mayor, City of Colorado Springs, 30 South Nevada Avenue, Suite 601, Colorado Springs, CO 80903. | Pikes Peak Regional Development Center, 2880 International Circle, Colorado Springs, CO 80910. | https://msc.fema.gov/portal/advanceSearch. | Mar. 16, 2022 | 080060
El Paso | Unincorporated areas of El Paso County (21-08-0258P). | The Honorable Stan VanderWerf, Chairman, El Paso County Board of Commissioners, 200 South Cascade Avenue, Suite 100, Colorado Springs, CO 80903. | Pikes Peak Regional Development Center, 2880 International Circle, Colorado Springs, CO 80910. | https://msc.fema.gov/portal/advanceSearch. | Mar. 16, 2022 | 080059
El Paso | Unincorporated areas of El Paso County (21-08-0534P). | The Honorable Stan VanderWerf, Chairman, El Paso County Board of Commissioners, 200 South Cascade Avenue, Suite 100, Colorado Springs, CO 80903. | Pikes Peak Regional Development Center, 2880 International Circle, Colorado Springs, CO 80910. | https://msc.fema.gov/portal/advanceSearch. | Feb. 22, 2022 | 080059
Connecticut: Fairfield | Town of Greenwich (21-01-1019P). | The Honorable Fred Camillo, First Selectman, Town of Greenwich Board of Selectmen, 101 Field Point Road, Greenwich, CT 06830. | Planning and Zoning Department, 101 Field Point Road, Greenwich, CT 06830. | https://msc.fema.gov/portal/advanceSearch. | Mar. 9, 2022 | 090008
Florida:
Collier | City of Naples (21-04-5172P). | The Honorable Teresa Heitmann, Mayor, City of Naples, 735 8th Street South, Naples, FL 34102. | Building Department, 295 Riverside Circle, Naples, FL 34102. | https://msc.fema.gov/portal/advanceSearch. | Mar. 15, 2022 | 125130
Lee | City of Bonita Springs (21-04-5316P). | The Honorable Rick Steinmeyer, Mayor, City of Bonita Springs, 9101 Bonita Beach Road, Bonita Springs, FL 34135. | Community Development Department, 9220 Bonita Beach Road, Bonita Springs, FL 34135. | https://msc.fema.gov/portal/advanceSearch. | Mar. 18, 2022 | 120680
Lee | Town of Fort Myers Beach (21-04-5796P). | The Honorable Ray Murphy, Mayor, Town of Fort Myers Beach, 2525 Estero Boulevard, Fort Myers Beach, FL 33931. | Community Development Department, 2525 Estero Boulevard, Fort Myers Beach, FL 33931. | https://msc.fema.gov/portal/advanceSearch. | Mar. 21, 2022 | 120673
Monroe | Unincorporated areas of Monroe County (21-04-5290P). | The Honorable Michelle Coldiron, Mayor, Monroe County Board of Commissioners, 25 Ships Way, Big Pine Key, FL 33043. | Monroe County Building Department, 2798 Overseas Highway, Suite 300, Marathon, FL 33050. | https://msc.fema.gov/portal/advanceSearch. | Mar. 28, 2022 | 125129
Osceola | Unincorporated areas of Osceola County (20-04-3793P). | The Honorable Brandon Arrington, Chairman, Osceola County Commission, District 3, 1 Courthouse Square, Suite 4700, Kissimmee, FL 34741. | Osceola County Public Works Department, 1 Courthouse Square, Suite 4700, Kissimmee, FL 34741. | https://msc.fema.gov/portal/advanceSearch. | Mar. 18, 2022 | 120189
Pasco | Unincorporated areas of Pasco County (21-04-2454P). | Mr. Dan Biles, Pasco County Administrator, 8731 Citizens Drive, New Port Richey, FL 34654. | Pasco County Administration Building, 8731 Citizens Drive, New Port Richey, FL 34654. | https://msc.fema.gov/portal/advanceSearch. | Mar. 17, 2022 | 120230
Sarasota | City of Sarasota (21-04-5236P). | The Honorable Hagen Brody, Mayor, City of Sarasota, 1565 1st Street, Room 101, Sarasota, FL 34236. | Development Services Department, 1565 1st Street, Sarasota, FL 34236. | https://msc.fema.gov/portal/advanceSearch. | Mar. 17, 2022 | 125150
Sumter | City of Wildwood (20-04-3751P). | The Honorable Ed Wolf, Mayor, City of Wildwood, 100 North Main Street, Wildwood, FL 34785. | Development Services Department, 100 North Main Street, Wildwood, FL 34785. | https://msc.fema.gov/portal/advanceSearch. | Mar. 18, 2022 | 120299
Sumter | Unincorporated areas of Sumter County (20-04-3751P). | The Honorable Garry Breeden, Chairman, Sumter County Board of Commissioners, 7375 Powell Road, Wildwood, FL 34785. | Sumter County Development Services Department, 7375 Powell Road, Wildwood, FL 34785. | https://msc.fema.gov/portal/advanceSearch. | Mar. 18, 2022 | 120296
Montana: Stillwater | Unincorporated areas of Stillwater County (21-08-0555P). | The Honorable Mark Crago, Chairman, Stillwater County Board of Commissioners, P.O. Box 970, Columbus, MT 59019. | Stillwater County South Annex, 17 North 4th Street, Columbus, MT 59019. | https://msc.fema.gov/portal/advanceSearch. | Mar. 25, 2022 | 300078
North Carolina: Wake | Town of Apex (20-04-4719P). | The Honorable Jacques Gilbert, Mayor, Town of Apex, P.O. Box 250, Apex, NC 27502. | Engineering Department, 73 Hunter Street, Apex, NC 27502. | https://msc.fema.gov/portal/advanceSearch. | Dec. 23, 2021 | 370467
Wake | Town of Cary (20-04-4719P). | The Honorable Harold Weinbrecht, Mayor, Town of Cary, P.O. Box 8005, Cary, NC 27512. | Stormwater Services Division, 316 North Academy Street, Cary, NC 27513. | https://msc.fema.gov/portal/advanceSearch. | Dec. 23, 2021 | 370238
Wake | Unincorporated areas of Wake County (20-04-4719P). | The Honorable Matt Calabria, Chairman, Wake County Board of Commissioners, P.O. Box 550, Raleigh, NC 27602. | Wake County Environmental, Services Department, 336 Fayetteville Street, Raleigh, NC 27601. | https://msc.fema.gov/portal/advanceSearch. | Dec. 23, 2021 | 370368
South Carolina:
Aiken | City of Aiken (21-04-3558P). | Mr. Stuart Bedenbaugh, Administrator, City of Aiken, 214 Park Avenue Southwest, Aiken, SC 29801. | Geographic Information Systems (GIS) Department, 245 Dupont Drive, Aiken, SC 29801. | https://msc.fema.gov/portal/advanceSearch. | Mar. 7, 2022 | 450003
Orangeburg | Unincorporated areas of Orangeburg County (22-04-0230P). | The Honorable Johnnie Wright, Sr., Chairman, Orangeburg County Council, 1437 Amelia Street, Orangeburg, SC 29115. | Orangeburg County Community Development Department, 1437 Amelia Street, Orangeburg, SC 29115. | https://msc.fema.gov/portal/advanceSearch. | Mar. 30, 2022 | 450160
South Dakota:
Minnehaha | City of Hartford (21-08-0753P). | The Honorable Jeremy Menning, Mayor, City of Hartford, 125 North Main Avenue, Hartford, SD 57033. | City Hall, 125 North Main Avenue, Hartford, SD 57033. | https://msc.fema.gov/portal/advanceSearch. | Mar. 23, 2022 | 460180
Minnehaha | Unincorporated areas of Minnehaha County (21-08-0753P). | The Honorable Dean Karsky, Chairman, Minnehaha County Board of Commissioners, 415 North Dakota Avenue, Sioux Falls, SD 57104. | Minnehaha County Planning Department, 415 North Dakota Avenue, Sioux Falls, SD 57104. | https://msc.fema.gov/portal/advanceSearch. | Mar. 23, 2022 | 460057
Tennessee:
Maury | City of Spring Hill (20-04-3873P). | The Honorable Jim Hagaman, Mayor, City of Spring Hill, P.O. Box 789, Spring Hill, TN 37174. | Building Codes Department, 5000 Northfield Lane, Suite 520, Spring Hill, TN 37174. | https://msc.fema.gov/portal/advanceSearch. | Mar. 17, 2022 | 470278
Maury | Unincorporated areas of Maury County (20-04-3873P). | The Honorable Andy Ogles, Mayor, Maury County, 41 Public Square, Columbia, TN 38401. | Maury County, Building Department, 5 Public Square, Columbia, TN 38401. | https://msc.fema.gov/portal/advanceSearch. | Mar. 17, 2022 | 470123
Texas:
Collin | City of Allen (21-06-1539P). | The Honorable Ken Fulk, Mayor, City of Allen, 305 Century Parkway, 1st Floor, Allen, TX 75013. | Engineering and Traffic Department, 305 Century Parkway, Allen, TX 75013. | https://msc.fema.gov/portal/advanceSearch. | Mar. 18, 2022 | 480131
Collin | City of Plano (21-06-1659P). | The Honorable John B. Muns, Mayor, City of Plano, 1520 K Avenue, Plano, TX 75074. | City Hall, 1520 K Avenue, Plano, TX 75074. | https://msc.fema.gov/portal/advanceSearch. | Mar. 21, 2022 | 480140
Comal | City of Bulverde (21-06-1446P). | The Honorable Bill Krawietz, Mayor, City of Bulverde, 30360 Cougar Bend, Bulverde, TX 78163. | City Hall, 30360 Cougar Bend, Bulverde, TX 78163. | https://msc.fema.gov/portal/advanceSearch. | Mar. 10, 2022 | 481681
Comal | Unincorporated areas of Comal County (21-06-1446P). | The Honorable Sherman Krause, Comal County Judge, 100 Main Plaza, New Braunfels, TX 78130. | Comal County Engineering Department, 195 David Jonas Drive, New Braunfels, TX 78132. | https://msc.fema.gov/portal/advanceSearch. | Mar. 10, 2022 | 481681
Denton | City of Carrollton (21-06-1854P). | The Honorable Kevin Falconer, Mayor, City of Carrollton, P.O. Box 110535, Carrollton, TX 75006. | Engineering Department, 1945 East Jackson Road, Carrollton, TX 75006. | https://msc.fema.gov/portal/advanceSearch. | Mar. 28, 2022 | 480167
Denton | City of Lewisville (21-06-1854P). | The Honorable T. J. Gilmore, Mayor, City of Lewisville, P.O. Box 299002, Lewisville, TX 75029. | Engineering Department, 151 West Church Street, Lewisville, TX 75057. | https://msc.fema.gov/portal/advanceSearch. | Mar. 28, 2022 | 480195
Denton | Unincorporated areas of Denton County (21-06-1854P). | The Honorable Andy Eads, Denton County Judge, 110 West Hickory Street, 2nd Floor, Denton, TX 76201. | Denton County Public Works, Engineering Department, 1505 East McKinney Street, Suite 175, Denton, TX 76209. | https://msc.fema.gov/portal/advanceSearch. | Mar. 28, 2022 | 480774
Montgomery | City of Conroe (21-06-1521P). | The Honorable Jody Czajkoski, Mayor, City of Conroe, 300 West Davis Street, Conroe, TX 77301. | City Hall, 700 Metcalf Street, Conroe, TX 77301. | https://msc.fema.gov/portal/advanceSearch. | Mar. 7, 2022 | 480484
Rockwall | City of Royse City (21-06-0684P). | The Honorable Clay Ellis, Mayor Pro Term, City of Royse City, P.O. Box 638, Royse City, TX 75189. | Engineering Department, 305 North Arch Street, Royse City, TX 75189. | https://msc.fema.gov/portal/advanceSearch. | Mar. 4, 2022 | 480548
Utah: Washington | City of St. George (21-08-0603P). | The Honorable Michele Randall, Mayor, City of St. George, 175 East 200 North, St. George, UT 84770. | City Hall, 175 East 200 North, St. George, UT 84770. | https://msc.fema.gov/portal/advanceSearch. | Mar. 16, 2022 | 490177
Virginia:
Independent City | City of Charlottesville (21-03-0301P). | Mr. Sam Sanders, Deputy Manager, City of Charlottesville, P.O. Box 911, Charlottesville, VA 22902. | Public Works Engineering Division, 610 East Market Street, Charlottesville, VA 22902. | https://msc.fema.gov/portal/advanceSearch. | Mar. 16, 2022 | 510033
Albemarle | Unincorporated areas of Albemarle County (21-03-0301P). | The Honorable Ned L. Gallaway, Chairman, Albemarle County Board of Supervisors, 401 McIntire Road, Charlottesville, VA 22902. | Albemarle County Community Development Department, 401 McIntire Road, Charlottesville, VA 22902. | https://msc.fema.gov/portal/advanceSearch. | Mar. 16, 2022 | 510006
Henrico | Unincorporated areas of Henrico County (21-03-0879P). | Mr. John A. Vithoulkas, Henrico County Manager, P.O. Box 90775, Henrico, VA 23273. | Henrico County Administration Annex Building, 4305 East Parham Road, Henrico, VA 23228. | https://msc.fema.gov/portal/advanceSearch. | Mar. 10, 2022 | 510077

[FR Doc. 2021-27615 Filed 12-20-21; 8:45 am]

BILLING CODE 9110-12-P